DEPARTMENT OF COMMERCE

Foreign-Trade Zones Board

[Docket 53-2002]

Foreign-Trade Zone 26—Atlanta, GA; Application for Subzone Ricoh Electronics, Inc. (Toner Cartridges, Related Toner Products and Thermal Paper Products), Lawrenceville, GA

An application has been submitted to the Foreign-Trade Zones Board (the Board) by the Georgia Foreign-Trade Zone, Inc., grantee of FTZ 26, requesting special-purpose subzone status for the toner cartridges, related toner products, and thermal paper products manufacturing plant of Ricoh Electronics, Inc. (Ricoh Electronics) in Lawrenceville, Georgia. The application was submitted pursuant to the provisions of the Foreign-Trade Zones Act, as amended (19 U.S.C. 81a-81u), and the regulations of the Board (15 CFR part 400). It was formally filed on November 19, 2002.

Ricoh Electronics' plant (73.13 acres/351,058 square feet, with a possible expansion of one additional building and expansion to existing buildings totaling 486,000 square feet) is located at 1125 Hurricane Shoals Road in Lawrenceville, Georgia.

The facility (340 employees) is requesting subzone status to produce thermal label paper (HTSUS 4811.41.1000—duty rate 1.2% and 4811.51.2050—duty free), tag paper (HTSUS 4811.90.8000—duty rate .4%), TC film (HTSUS 3920.62.0000—duty rate 4.2%), thermal transfer ribbon (HTSUS 9612.10.9030—duty rate 8.1%), toner cartridges (HTSUS 8473.30.5000, 8473.40.8000, 8517.90.0400, and 9009.99.4000—duty free), toner and developer (HTSUS 3707.90.3290—duty rate 6.5%), and remanufactured toner cartridges. The company may add other Ricoh products such as highly advanced digital copiers, laser and multi-function printers, copier and printer peripherals (such as sorters, large capacity trays, and copier stands), printed circuit boards, secure fax machines, eCabinets (electronic data storage units), and other products to their manufacturing line in the future. Foreign-sourced materials will account for some 40 percent of finished product value, and include items from the following general categories: Vegetable waxes; quartz; mineral oils; carbon; inorganic acids and oxygen compounds of nonmetals; aluminum oxide; iron oxides; titanium oxides; sulfates; carbonates; silicates; oxometallic or peroxometallic acids; acyclic alcohols; phenols; ethers; saturated acyclic monocarboxylic acids; polycarboxilic acids; amine function compounds; diazo-, azo- or azoxy-compounds; organic derivatives of hydrazine; organo-sulfur compounds; heterocyclic compounds; other organic compounds; paints and varnishes; surface-active agents; artificial waxes and prepared waxes; prepared glues and other prepared adhesives; photographic film; photographic paper, paperboard; chemical preparations for photographic uses; finishing agents; rubber accelerators; organic composite solvents and thinners; prepared binders for foundry molds; polymers of ethylene/propylene/styrene/vinyl chloride/vinyl acetate and acrylic; epoxide resins; polyamides in primary forms; amino-resins; silicones; cellulose; tubes, pipes and hoses; self-adhesive plates; sheets, film, foil, tape; other articles of plastics; other articles of unvulcanized rubber; conveyor or transmission belts; wood packing cases and boxes, uncoated paper and paperboard; paper cartons and boxes, cellulose wadding or fibers; bobbins, spools, cops and similar supports of paper pulp; cleaning seals for cartridge assembly; fabricated asbestos fibers; glass spheres; metal fasteners; copper springs; aluminum foil; aluminum tube or pipe fittings; tungsten; base metal mountings; metal office fasteners; air or vacuum pumps, air or other gas compressors and fans; centrifuges; automatic data processing machines; other office machines and parts and accessories; molds for metal foundry; taps, cocks, valves; ball or roller bearings; transmission shafts and cranks; gaskets and similar joints of metal sheeting; electric motors and generators; electrical transformers, static converters and inductors; electromagnets, permanent magnets; primary cells and primary batteries; industrial or laboratory electric furnaces and ovens; electric instantaneous or storage water heaters, electric space heating apparatus, electrothermic hairdressing apparatus; electrical apparatus for line telephony or telegraphy, videophones; electrical capacitors; electrical resistors; printed circuits; electrical apparatus for switching or protecting electrical circuits; electrical filament or discharge lamps; diodes, transistors, photosensitive semiconductor devices; electronic integrated circuits and microassemblies; insulated wire and cable; insulating fittings for electrical machines; waste and scrap of primary cells and batteries; mirrors; lenses; photographic cameras; photocopying apparatus; instruments and appliances used in dental, medical, veterinary and surgical sciences; measuring instruments; counters, automatic regulating or controlling instruments or apparatus; contact static eliminator brush for copiers; and typewriter ribbons.

Zone procedures would exempt Ricoh Electronics from Customs duty payments on foreign materials used in production for export. Some 25 percent of the toner products are exported. On domestic sales, the company would be able to choose the duty rates that apply to the finished products (primarily duty-free, with some up to 8.1%) rather than the duty rates that would otherwise apply to the foreign-sourced materials noted above (duty-free to 12.5 percent, weighted average 4.7%). The application indicates that the savings from zone procedures will help improve the plant's international competitiveness.

In accordance with the Board's regulations, a member of the FTZ Staff has been designated examiner to investigate the application and report to the Board.

Public comment is invited from interested parties. Submissions (original and three copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is February 4, 2003. Rebuttal comments in response to material submitted during the foregoing period may be submitted during the subsequent 15-day period (to February 19, 2003).

A copy of the application and accompanying exhibits will be available for public inspection at the Office of the Foreign-Trade Zones Board's Executive Secretary at address Number 1 listed above, and at the U.S. Export Assistance Center, Marquis Two Tower, Suite 200, 285 Peachtree Center Avenue, NE., Atlanta, Georgia 30303-1229.

Dated: November 21, 2002.
Dennis Puccinelli,
Executive Secretary.

[FR Doc. 02-30872 Filed 12-5-02; 8:45 am]

BILLING CODE 3510-DS-P